DEPARTMENT OF DEFENSE

Office of the Secretary

Defense Science Board; Meeting

ACTION: Notice of Advisory Committee meetings.

SUMMARY: The Defense Science Board (DSB) Task Force on Defense Science & Technology (S&T) will meet in closed session on March 1-2, 2001; March 29-30, 2001; May 3-4, 2001; June 7-8, 2001; June 28-29, 2001; and July 26-27, 2001, at SAIC, 4001 N. Fairfax Drive, Arlington, VA. The Task Force will address the issues involved in assuring that the U.S. continues to gain access to and develop technology from which to gain military advantage.

The mission of the Defense Science Board is to advise the Secretary of Defense and the Under Secretary of Defense for Acquisition, Technology & Logistics on scientific and technical matters as they affect the perceived needs of the Department of Defense. At these meetings, the Defense Science Board Task Force will consider: future technologies that should be developed and exploited for military applications, particularly potential technologies that provide the U.S. military an asymmetric advantage in conflict, in deployment, and at home; the appropriate mix of in-house, contractor, university and commercial providers of basic and applied research and of advanced development; how DoD can leverage technology that is under development and produced globally in commercial industry, as well as that which is being discovered and demonstrated in the S&T programs funded by both other U.S. agencies and other nations; the situation of and the contribution of the DoD laboratories in this changing world; and how to maintain excellence in in-house S&T endeavors.

In accordance with section 10(d) of the Federal Advisory Committee Act, Pub. Law 92-463, as amended (5 U.S.C. App. II), it has been determined that these Defense Board meetings, concern matters listed in 5 U.S.C. 552b(c)(1), and that accordingly these meetings will be closed to the public.

Due to critical mission requirements and scheduling conflicts, there is insufficient time to provide timely notice required by section 10(a)(2) of the Federal Advisory Committee Act and subsection 101-6.1015(b) of the GSA Final rule on Federal Advisory Committee Management, 41 CFR part 101-6, which further requires publication at least 15 calendar days prior to the meeting of the Task Force.

Dated: February 16, 2001.
L.M. Bynum,
Alternate OSD Federal Register Liaison Officer, Department of Defense.

[FR Doc. 01-4487 Filed 2-22-01; 8:45 am]

BILLING CODE 5001-10-M